DEPARTMENT OF AGRICULTURE

Forest Service

Tuolumne-Mariposa Counties Resource Advisory Committee

AGENCY: Forest Service, USDA.

ACTION: Notice of meeting.

SUMMARY: The Tuolumne-Mariposa Counties Resource Advisory Committee will meet on August 16, 2010 at the City of Sonora Fire Department, in Sonora, California. The purpose of the meeting is to vote on projects, determine the need for an August 23rd meeting, and schedule meetings and topics for 2011.

DATES: The meeting will be held August 16, 2010, from 9 a.m. to 3 p.m.

ADDRESSES: The meeting will be held at the City of Sonora Fire Department located at 201 South Shepherd Street, in Sonora, California (CA 95370).

FOR FURTHER INFORMATION CONTACT: Beth Martinez, Committee Coordinator, USDA, Stanislaus National Forest, 19777 Greenley Road, Sonora, CA 95370 (209) 532-3671, extension 320; E-Mail bethmartinez@fs.fed.us.

SUPPLEMENTARY INFORMATION: Agenda items to be covered include: (1) Discussion and voting on projects; (2) determine need for an August 23rd meeting; (3) schedule meetings/topics for 2011; (4) public comment on meeting proceedings. This meeting is open to the public.

Dated: June 25, 2010.
Susan Skalski,
Forest Supervisor.

[FR Doc. 2010-16327 Filed 7-2-10; 8:45 am]

BILLING CODE 3410-ED-P